DEPARTMENT OF COMMERCE

National Oceanic and Atmospheric Administration

RIN 0648-XV103

South Atlantic Fishery Management Council; Public Meetings

AGENCY: National Marine Fisheries Service (NMFS), National Oceanic and Atmospheric Administration (NOAA), Commerce.

ACTION: Notice of public scoping meetings.

SUMMARY: The South Atlantic Fishery Management Council (Council) will hold a series of scoping meetings via webinar (with listening stations in North Carolina) pertaining to Regulatory Amendment 34 to the Snapper Grouper Fishery Management Plan for the South Atlantic Region. The amendment would designate artificial reefs in the federal waters off North Carolina and South Carolina as Special Management Zones (SMZ) and implement fishing gear restrictions within the SMZs.

DATES: The public scoping meetings will be held via webinar (with listening stations in North Carolina) on October 28-30, 2019.

ADDRESSES: The meetings will be held via webinar.

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The scoping meetings will be conducted via webinar with assigned listening stations (in North Carolina only). The scoping meetings will begin at 6 p.m. Registration for the webinars is required. Registration information will be posted on the Council's website at https://safmc.net/safmc-meetings/public-hearings-scoping-meetings/ as it becomes available. Listening stations will be available at the following locations:

October 28, 2019 Webinar

Dare County Administration Building, 954 Marshall Collins Dr. (Commissioners Meeting Room), Manteo, NC 27954; Phone: (252) 475-5555.

October 29, 2019 Webinar

N.C. Division of Marine Fisheries Central District Office, 5285 Highway 70 West, Morehead City, NC 28557; Phone: (252) 726-7021.

October 30, 2019 Webinar

N.C. Division of Marine Fisheries Southern District Office, 127 Cardinal Drive Extension, Wilmington, NC 28405; Phone: (910) 796-7215.

Regulatory Amendment 34 to the Snapper Grouper Fishery Management Plan

The draft regulatory amendment contains proposed actions to:

Establish 30 Special Management Zones at permitted artificial reef sites in federal waters off the coast of North Carolina. Within the SMZs, harvest of snapper grouper species would be allowed with handline, rod and reel, and spear. All harvest by spear would be limited to the applicable recreational bag limit.

Establish four additional SMZs at permitted artificial reef sites in federal waters off the coast of South Carolina. Within the SMZs, harvest of snapper grouper species would only be allowed with handline, rod and reel, and spear (without powerheads) and harvest would be limited to the applicable recreational bag limit.

During the scoping meetings, Council staff will present an overview of the draft amendment and will be available for informal discussions and to answer questions via webinar. Area Council members will be present at each of the Listening Stations. Members of the public will have an opportunity to go on record to record their comments for consideration by the Council. A public comment form will also be available online. The comment form, a copy of the Regulatory Amendment 34 Scoping Document, and additional information will be posted on the Council's website as it becomes available at: https://safmc.net/safmc-meetings/public-hearings-scoping-meetings/.

Special Accommodations

These meetings are physically accessible to people with disabilities. Requests for auxiliary aids should be directed to the Council office (see ADDRESSES) 3 days prior to the public hearings.

Note: The times and sequence specified in this agenda are subject to change.

Authority: 16 U.S.C. 1801 et seq.

Dated: October 8, 2019.
Tracey L. Thompson,
Acting Deputy Director, Office of Sustainable Fisheries, National Marine Fisheries Service.

[FR Doc. 2019-22290 Filed 10-10-19; 8:45 am]

BILLING CODE 3510-22-P